CONSUMER PRODUCT SAFETY COMMISSION

Senior Executive Service; Performance Review Board; Membership

AGENCY: Consumer Product Safety Commission.

ACTION: Notice of names of members.

SUMMARY: This notice lists the individuals who have been appointed to the Commission's Senior Executive Service Performance Review Board.

EFFECTIVE DATE: January 11, 2006.

ADDRESSES: Consumer Product Safety Commission, Office of the Secretary, Washington, DC 20207.

FOR FURTHER INFORMATION CONTACT: Donna M. Simpson, Office of Human Resources, Consumer Product Safety Commission, Washington, DC 20207; telephone (301) 504-7218; e-mail dsimpson@cpsc.gov

Members of the Performance Review Board are listed below:

Lowell F. Martin (Chairman)

Gregory Rodgers

John Gibson Mullan

Patrick D. Weddle

Mary Ann T. Danello (alternate)

Jacqueline Elder (alternate)

Hugh M. McLaurin (alternate)

Joseph Mohorovic (alternate)

Marc Schoem (alternate)

Andrew G. Stadnick (alternate)

Patricia M. Semple (alternate)

Page C. Faulk (advisory member)

Donna Simpson (executive secretary)

Alternate members may be designated by the Chairman or the Chairman's designee to serve in the place of regular members who are unable to serve for any reason.

Dated: January 6, 2006.
Todd A. Stevenson,
Secretary, Consumer Product Safety Commission.

[FR Doc. E6-167 Filed 1-10-06; 8:45 am]

BILLING CODE 6355-01-P